DEPARTMENT OF AGRICULTURE

Forest Service

Mineral County Resource Advisory Committee

AGENCY: Forest Service, USDA.

ACTION: Notice of meeting.

SUMMARY: The Mineral County Resource Advisory Committee (RAC) will meet in Superior, MT. The purpose of the meetings is to review and vote on submitted proposals, and receive public comment on the meeting subjects and proceedings.

DATES: The meetings will be held March 20, 2014, April 3, 2014, and April 10, 2014, 6:00 p.m. to 8:00 p.m.

ADDRESSES: Superior Ranger District, 209 W. Riverside Ave., Superior, MT 59872.

FOR FURTHER INFORMATION CONTACT: Tawnya Brummett, District Ranger at 406-822-3928 or email: tbrummett@fs.fed.us.

SUPPLEMENTARY INFORMATION: The following business will be conducted: (1) Review presentation and written proposals (2) Brief discussion of proposals (3) prioritize projects by vote and choose which projects to fund as funding allows.

Dated: January 22, 2014.
Tawnya Brummett,
District Ranger.

[FR Doc. 2014-01690 Filed 1-28-14; 8:45 am]

BILLING CODE 3410-11-P